DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Data User Evaluation Surveys.

Form Number(s): Various.

Agency Approval Number: 0607-0760.

Type of Request: Extension of a currently approved collection.

Burden: 4,000 hours.

Number of Respondents: 8,000.

Avg Hours Per Response: 30 minutes.

Needs and Uses: The Census Bureau requests a three-year extension of the generic clearance to conduct customer/product-based research. This extension will allow us to continue to use customer satisfaction surveys, personal interviews, or focus group research to effectively improve and make more customer-oriented programs, products, and services.

Extended clearance for data collections would continue to cover customer/program-based research for any Census Bureau program area that needs to measure customer needs, uses, and preferences for statistical information and services. The customer base includes, but is not limited to previous, existing, and potential businesses and organizations, alternate Census Bureau data disseminators like State Data Centers, Business and Industry Data Centers, Census Information Centers, Federal or Census Depository Libraries, educational institutions, and not-for-profit or other organizations.

Affected Public: Individuals or households, Businesses or other for profit, Not-for-profit institutions, Federal Government, State, local or Tribal governments.

Frequency: On occasion.

Respondent's Obligation: Voluntary.

Legal Authority: Executive Order 12862.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 25, 2001.
Madeleine Clayton,
Departmental Paperwork Clearance Officer, Office of the Chief Information Officer.

[FR Doc. 01-18934 Filed 7-27-01; 8:45 am]

BILLING CODE 3510-07-P